DEPARTMENT OF DEFENSE

Office of the Secretary

Meeting of the Secretary's Defense Advisory Board (DAB) for Employer Support of the Guard and Reserve (ESGR)

ACTION: Notice of open meeting.

SUMMARY: This DAB meeting will focus on the extension of full active-duty TRICARE benefits to Guard and Reservists members on reserve status and other matters as submitted to the Board from the floor. The DAB meeting will begin with briefings and end with a report of its draft findings and recommendations.

DATES: Friday, 25 June 2004, 10 a.m. to 4 p.m.; Saturday, 26 June 2004, 8 a.m. to 12 p.m.

ADDRESSES: Day 1: Secretary of Defense Conference Room, Pentagon. Day 2: The Ritz-Carlton Hotel, 1250 South Hayes Street, Arlington, Virginia 22202.

FOR FURTHER INFORMATION CONTACT: CPT Edward K. Hooks at 703-696-1386 x636 or by e-mail at edward.hooks@osd.mil.

Dated: May 26, 2004.
L.M. Bynum,
Alternate OSD Federal Register Liaison Officer, Department of Defense.

[FR Doc. 04-12475 Filed 6-2-04; 8:45 am]

BILLING CODE 5001-06-M